DEPARTMENT OF THE TREASURY

Office of Thrift Supervision

[No. 2006-4]

Office of the Comptroller of the Currency

FEDERAL RESERVE SYSTEM

FEDERAL DEPOSIT INSURANCE CORPORATION

NATIONAL CREDIT UNION ADMINISTRATION

Interagency Advisory on the Unsafe and Unsound Use of Limitation of Liability Provisions in External Audit Engagement Letters

Correction

In notice document 06-1189 beginning on page 6847 in the issue of Thursday, February 9, 2006, make the following correction:

On page 6847, in the first column, the document heading is corrected to read as set forth above.

[FR Doc. C6-1189 Filed 2-14-06; 8:45 am]

BILLING CODE 1505-01-D